DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Cross-site Evaluation of the Effectiveness of the Infant Adoption Awareness Training Program (IAATP)—New

HRSA proposes to evaluate the Infant Adoption Awareness Program being implemented by adoption organizations. The IAATP is authorized under the Children's Health Act of 2000 (CHA), Title XII, Subtitle A to develop, implement and evaluate curricula to achieve the goal of providing adoption information and referrals on an equal basis with other courses of action included in non-directive counseling to pregnant women. National, regional and local organizations whose primary purpose includes adoption were funded under IAATP cooperative agreements to deliver adoption training to health care workers with a special focus on those working in health care facilities funded under section 1001 and section 330 and those receiving grants to provide health services in schools. The Children's Health Act mandates that the Secretary submit to Congress a report evaluating the effectiveness of training delivered under the IAATP and the extent to which it results in the provision of adoption information and referrals to pregnant women on an equal basis with other courses of action included in non-directive counseling to pregnant women.

To determine if the IAATP is effective in achieving the intent of the congressional mandate, the proposed study will assess the effect of IAATP training on knowledge, attitudes and self reported practices for health care workers who counsel pregnant women in health care settings. An estimated 690 health care workers who regularly counsel pregnant women and who completed IAATP training will be recruited into the study and will complete a 20 minute mail survey instrument covering the time and extent of their exposure to the IAATP training as well as knowledge, attitudes and self-reported practices in providing adoption information and referrals to pregnant women. A comparison group of 690 health care workers who perform pregnancy counseling but did not receive the IAATP training will receive a mail survey on their knowledge, attitudes and self-reported behaviors in providing adoption information and referrals to the pregnant women that they counsel.

In addition, staff of each of the four grantees, their trainers and trainees will participate in interviews and focus groups to document the program development and training processes and delivery of the IAATP. For each grantee, there will be one-hour individual interviews of grantee staff, one focus group of trainers from each of four grantees, and two focus groups of trainees from each of four grantee programs.

Respondents | Number of respondents | Responses per respondent | Hours per response | Total burden hours
Health care workers completing IAATP training | 690 | 1 | .33 | 228
Health care workers not completing IAATP training | 690 | 1 | .25 | 173
Grantee staff interviews (8 from each of 4 grantees) | 32 | 2 | 1 | 64
Focus groups with trainers | 32 | 1 | 2 | 64
Focus groups with trainees | 64 | 1 | 2 | 128
Total | 1,508 |  |  | 657

Send comments to Susan G. Queen, Ph.D., HRSA Reports Clearance Officer, Room 11-05, Parklawn Building, 5600 Fishers Lane, Rockville, MD 20857. Written comments should be received within 60 days of this notice.

Dated: April 25, 2002.
Stephen R. Smith,
Acting Associate Administrator for Management and Program Support.

[FR Doc. 02-10841 Filed 5-1-02; 8:45 am]

BILLING CODE 4165-15-P